Proclamation 8962 of April 19, 2013

Earth Day, 2013

By the President of the United States of America

A Proclamation

As the world's technological leader and home to some of its most breathtaking natural wonders, America has a special responsibility to safeguard our environment. On Earth Day, we celebrate our rich legacy of stewardship and reflect on what we can do, as individuals and as a Nation, to preserve our planet for future generations.

The first Earth Day marked a renewal of America's global leadership in conservation. It began as a national discussion on pollution and came to embody a simple truth: that nothing is more powerful than millions of voices calling for change. In only a few years, those voices rang as clear in our laws as on our streets—from the creation of the Environmental Protection Agency to landmark legislation for clean air and water. These successes continue to bring health and prosperity to communities nationwide, demonstrating that our economy can grow alongside a healthy environment.

As environmental challenges evolve with a changing world, my Administration is committed to meeting them. During my first term, we launched the America's Great Outdoors initiative, made historic progress restoring precious ecosystems, and finalized standards to curb toxic emissions from power plants. Implementing these standards will help prevent thousands of premature deaths each year by substantially reducing mercury and other pollutants.

We have made real progress, but we cannot stop there. We cannot afford to ignore what the overwhelming judgment of science tells us: that climate change is real and that it poses an urgent threat to our people and our planet. That is why my Administration set historic fuel efficiency standards that will nearly double how far our cars go on a gallon of gas while reducing harmful carbon pollution. It is why we made unprecedented investments in clean energy, allowing us to double renewable energy production in only 4 years. And it is why I am challenging Americans to double it again by 2020.

Because climate change and other environmental problems cannot be fully addressed by government alone, we are also engaging key stakeholders at home and abroad. Last year, we launched a global initiative to cut short-lived climate pollutants that contribute to global warming. We have proposed historic investments in Land and Water Conservation Fund programs. And we continue to stand behind innovators and entrepreneurs who will unleash the next wave of clean energy technologies and drive long-term economic growth. At the same time, we are working to protect our communities and our economy from the unavoidable effects of climate change that we are already starting to feel.

Today, America is sending less carbon pollution into the environment than we have in nearly 20 years. But we owe it to our children to do more. That is why I have called on the Congress to pursue a bipartisan, market-based solution to climate change. In the meantime, I will direct my Cabinet to come up with executive actions to reduce pollution, prepare our communities for the consequences of climate change, and speed our transition to sustainable energy.

More than four decades after the first Earth Day, millions of Americans have answered the call to protect the environment. Today, let us do so again by joining together, raising our voices, and standing up for our planet and our future.

NOW, THEREFORE, I, BARACK OBAMA, President of the United States of America, by virtue of the authority vested in me by the Constitution and the laws of the United States, do hereby proclaim April 22, 2013, as Earth Day. I encourage all Americans to participate in programs and activities that will protect our environment and contribute to a healthy, sustainable future.

IN WITNESS WHEREOF, I have hereunto set my hand this nineteenth day of April, in the year of our Lord two thousand thirteen, and of the Independence of the United States of America the two hundred and thirty-seventh.

[FR Doc. 2013-09870

Filed 4-23-13; 11:15 am]

Billing code 3295-F3